DEPARTMENT OF AGRICULTURE

Food and Nutrition Service

Agency Information Collection Activities: Proposed Collection: Comment Request: Supplemental Nutrition Assistance Program (SNAP) Education and Administrative Reporting System (EARS)

AGENCY: Food and Nutrition Service, USDA.

ACTION: Notice.

SUMMARY: In accordance with the Paperwork Reduction Act of 1995, this notice invites the general public and other public agencies to comment on a proposed information collection. The proposed collection is an extension, without change, of a currently approved collection. The purpose of the Education and Administrative Reporting System (EARS) form is to collect uniform and standard information on nutrition education activities (SNAP-Ed) funded by SNAP. The data collected will inform management decisions, support policy initiatives and provide documentation for legislative, budget and other requests that support planning within the agency.

DATES: Written comments must be submitted on or before June 4, 2013.

ADDRESSES: Comments are invited on: (a) Whether the proposed collection of information is necessary for the proper performance of the functions of the agency, including whether the information has practical utility; (b) the accuracy of the agency's estimate of the burden of the proposed collection of information, including the validity of the methodology and assumptions that were used; (c) ways to enhance the quality, utility and clarity of the information to be collected; and (d) ways to minimize the burden of the collection of information on those who are to respond, including through the use of appropriate automated, electronic, mechanical or other technological collection techniques or other forms of information technology.

Comments may be sent to Jane Duffield, Chief, State Administration Branch, Program Accountability and Administration Division, Supplemental Nutrition Assistance Program, U.S. Department of Agriculture, Food and Nutrition Service, 3101 Park Center Drive, Room 818, Alexandria, VA 22302. Comments may also be submitted via fax to the attention of Jane Duffield at 703-605-0795, Room 824, or via email to SNAP-Ed@fns.usda.gov. Comments will also be accepted through the Federal eRulemaking Portal. Go to http://www.regulations.gov and follow the online instructions for submitting comments electronically.

All written comments will be open for public inspection at the office of the Food and Nutrition Service during regular business hours (8:30 a.m. to 5 p.m. Monday through Friday) at 3101 Park Center Drive, Room 824, Alexandria, Virginia 22302.

All responses to this notice will be summarized and included in the request for the Office of Management and Budget (OMB) approval. All comments will also be a matter of public record.

FOR FURTHER INFORMATION CONTACT: Requests for additional information or copies of the proposed information collection form and instructions should be directed to Usha Kalro at 703-305-2397.

SUPPLEMENTARY INFORMATION:

Title: Education and Administrative Reporting System.

OMB Number: 0584-0542.

Form Number: FNS-759.

Expiration Date: 08/31/2013.

Type of Request: Extension, without change, of a currently approved collection.

Abstract: The Food and Nutrition Service (FNS) developed the Education and Administrative Reporting System (EARS) for the nutrition education (SNAP-Ed) component of the Supplemental Nutrition Assistance Program (SNAP), which is provided for in Section 11 of the Food and Nutrition Act 2008 (7 U.S.C. 2020 (f)(3)(B)(ii)). In 2003, the Agency convened a workgroup of diverse stakeholders to assist with this task, including people from the State, local and federal levels, as well as academia.

The EARS form was approved by OMB in Fiscal Year (FY) 2007. The first phase of EARS implementation, launched in FY 2008, required SNAP State agencies to report on financial questions #9 and #10 on the EARS form. Full implementation of all applicable EARS questions was required of SNAP State agencies by FY 2010. All State agencies fully complied with this requirement. EARS provides uniform data and information about the nutrition education activities of all participating States across the country. Data collected on the EARS form includes demographic characteristics of participants receiving nutrition education benefits, information about education topics and strategies and use of resources. The EARS form is designed as an annual report that SNAP State agencies submit using FNS web-based Food Program Reporting System (FPRS). FPRS is available to SNAP State agencies between October 15 and December 30 of each year for the submission of EARS data for the prior FY's nutrition education activities.

There are no changes in hourly burden since the last submission. FNS estimates that 52 State agencies will respond once a year for a total 52 annual responses. It will take approximately 54 burden hours for each State agency to respond for a total of 2,808 annual burden hours. There are no recordkeeping requirements imposed by this information collection.

Affected Public: Supplemental Nutrition Assistance Program (SNAP) State Agencies and implementing partners such as extension universities, non-profit organizations and local program operators.

Estimated Number of Respondents: 52.

Number of Responses per Respondent: 1.

Estimated Total Annual Responses: 52.

Hours per Response: 54.

Total Annual Burden Hours (Reporting Only): 2,808.

Dated: March 21, 2013.
Audrey Rowe,
Administrator, Food and Nutrition Service.

[FR Doc. 2013-07958 Filed 4-4-13; 8:45 am]

BILLING CODE 3410-34-P